DEPARTMENT OF STATE

[Public Notice: 11805]

Notice of Public Meeting: International Digital Economy and Telecommunication (IDET) Advisory Committee

AGENCY: Department of State.

ACTION: Notice.

SUMMARY: Pursuant to the Federal Advisory Committee Act (FACA), notice is hereby given of a public meeting of the International Digital Economy and Telecommunication (IDET) Advisory Committee via videoconference on Friday, September 9 at 1:00 p.m.-3:00 p.m. (ET). The purpose of the meeting is to discuss the committee's next priorities.

DATES: September 9, 2022.

SUPPLEMENTARY INFORMATION: Additional information about the IDET is accessible at https://www.state.gov/international-digital-economy-and-telecommunication-advisory-committee IDET meetings are open to the public, and we encourage anyone wanting to attend this virtual meeting to contact IDET@state.gov to register by COB Wednesday, August 31 with their name, contact information, affiliation, and any request for reasonable accommodation. Requests for reasonable accommodation made after that time will be considered but might not be able to be accommodated. The public may have an opportunity to provide comments at this meeting at the invitation of the chair. Members of the public may also submit a brief comment (less than three pages) to the committee in writing to IDET@state.gov for inclusion in the public minutes of the meeting.

Agenda

Friday, September 9 at 1:00 p.m. (ET)

Roll call

Project Planning

Next Steps and Other Business

Public Comment

Adjournment

FOR FURTHER INFORMATION CONTACT: Please contact the Designated Federal Officer (DFO) Daniel Oates or Alternate DFO Brian Mattys at IDET@state.gov or (202) 878-2010.

Kevin E. Bryant,
Acting Director, Office of Directives Management, Department of State.

[FR Doc. 2022-16744 Filed 8-3-22; 8:45 am]

BILLING CODE 4710-10-P